INTERNATIONAL TRADE COMMISSION

[Inv. No. 337-TA-661]

In the Matter of Certain Semiconductor Chips Having Synchronous Dynamic Random Access Memory Controllers and Products Containing Same: Notice of Investigation

AGENCY: U.S. International Trade Commission.

ACTION: Institution of investigation pursuant to 19 U.S.C. 1337.

SUMMARY: Notice is hereby given that a complaint was filed with the U.S. International Trade Commission on November 6, 2008, under section 337 of the Tariff Act of 1930, as amended, 19 U.S.C. 1337, on behalf of Rambus Inc. of Los Altos, California. A letter supplementing the complaint was filed on November 21, 2008. The complaint alleges violations of section 337 based upon the importation into the United States, the sale for importation, and the sale within the United States after importation of certain semiconductor chips having synchronous dynamic random access memory controllers and products containing same, including graphics cards and motherboards, that infringe certain claims of U.S. Patent Nos. 7,177,998; 7,210,016; 6,470,405; 6,591,353; 7,287,109; 7,287,119; 7,330,952; 7,330,953; and 7,360,050. The complaint further alleges that an industry in the United States exists as required by subsection (a)(2) of section 337.

The complainant requests that the Commission institute an investigation and, after the investigation, issue a general exclusion order and a cease and desist order.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

FOR FURTHER INFORMATION CONTACT: Vu Q. Bui, Esq., Office of Unfair Import Investigations, U.S. International Trade Commission, telephone (202) 205-2582.

Authority: The authority for institution of this investigation is contained in section 337 of the Tariff Act of 1930, as amended, and in section 210.10 of the Commission's Rules of Practice and Procedure, 19 CFR 210.10 (2008).

Scope of Investigation: Having considered the complaint, the U.S. International Trade Commission, on December 4, 2008, Ordered that—

(1) Pursuant to subsection (b) of section 337 of the Tariff Act of 1930, as amended, an investigation be instituted to determine whether there is a violation of subsection (a)(1)(B) of section 337 in the importation into the United States, the sale for importation, or the sale within the United States after importation of certain semiconductor chips having synchronous dynamic random access memory controllers or products containing same that infringe one or more of claims 7, 13, 21, and 22 of U.S. Patent No. 7,177,998; claims 7, 13, 21, and 22 of U.S. Patent No. 7,210,016; claims 11-13, 15, and 18 of U.S. Patent No. 6,470,405; claims 11-13 of U.S. Patent No. 6,591,353; claims 1-6, 11-13, 20-22, and 24 of U.S. Patent No. 7,287,109; claims 21 and 22 of U.S. Patent No. 7,287,119; claims 21, 22, and 24 of U.S. Patent No. 7,330,952; claim 25 of U.S. Patent No. 7,330,953; and claims 29 and 31 of U.S. Patent No. 7,360,050, and whether an industry in the United States exists as required by subsection (a)(2) of section 337;

(2) For the purpose of the investigation so instituted, the following are hereby named as parties upon which this notice of investigation shall be served:

(a) The complainant is—

Rambus Inc., 4440 El Camino Real, Los Altos, California 94022.

(b) The respondents are the following entities alleged to be in violation of section 337, and are the parties upon which the complaint is to be served:

NVIDIA Corporation, 2701 San Tomas Expressway, Santa Clara, California 95050;

Asustek Computer Inc., 4F, No. 15, Li Te Rd., Peitou District, Taipei 112, Taiwan;

ASUS Computer International, Inc., 800 Corporate Way, Fremont, California 94539;

BFG Technologies, Inc., 28690 Ballard Drive, Lake Forest, Illinois 60045;

Biostar Microtech (U.S.A.) Corp., 18551 East Gale Avenue, City of Industry, California 91748;

Biostar Microtech International Corp., 2 Fl., 108-2 Ming Chuan Road, Hsin Tien, Taiwan;

Diablotek Inc., 1421 Pedley Drive, Alhambra, California 91803;

EVGA Corp., 2900 Saturn Street, Suite B, Brea, California 92821;

G.B.T. Inc., 17358 Railroad St., City of Industry, California 91748;

Giga-byte Technology Co., Ltd., No. 6, Bau Chiang Road, Hsin-Tien, Taipei 231, Taiwan;

Hewlett-Packard Co., 3000 Hanover Street, Palo Alto, California 94304;

MSI Computer Corp., 901 Canada Court, City of Industry, California 91748;

Micro-star International Co., Ltd., No. 69, Li-De St., Jung-He City, Taipei Hsien, Taiwan;

Palit Multimedia Inc., 1920 O'Toole Way, San Jose, California 95131;

Palit Microsystems Ltd., 21F, 88, Sec. 2, Chung Hsiao E. Rd., Taipei, Taiwan;

Pine Technology Holdings, Ltd. Units 5507-10 Hopewell Centre, 183 Queen's Road East, Hong Kong;

Sparkle Computer Co., Ltd., 13F, No. 2, Sec. 1 Fu Hsing S. Rd., Taipei, Taiwan.

(c) The Commission investigative attorney, party to this investigation, is Vu Q. Bui, Esq., Office of Unfair Import Investigations, U.S. International Trade Commission, 500 E Street, SW., Suite 401, Washington, DC 20436; and

(3) For the investigation so instituted, Paul J. Luckern, Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: December 4, 2008.
Marilyn R. Abbott,
Secretary to the Commission.

[FR Doc. E8-29162 Filed 12-9-08; 8:45 am]

BILLING CODE 7020-02-P